DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Austin & Texas Central Railroad

[Waiver Petition Docket Number FRA-2008-0066]

The Austin & Texas Central Railroad (ATCX) of Austin, Texas, has petitioned for an extension of an existing safety glazing waiver (RSGM-97-02) of compliance from Title 49 CFR Part 223 to increase running track speed for four sleeper/lounge passenger cars operated by ATCX in excursion service. These cars are two sleeper lounge passenger cars NKP-151 and ATSF 1343, and two Pullman Coach Cars ATCX 107 and ATCX 325.

ATCX intends to use the cars in passenger excursion service at speeds not to exceed 25 miles per hour (mph) over 154 miles of track owned by the city of Austin, Texas, between Cedar Park, TX, and Burnette, TX. ATCX operates one train daily on weekends from March to December, with occasional weekday trains. The original waiver specified that the maximum track speed shall not exceed 20 mph under condition #7. The following are reasons for the request to increase the track speed to 25 mph:

• The authority to occupy the main track is now in the form of Track Warrant Control for the majority of the line and yard limits in a few limited areas.

• Track warrants are issued by controllers in a centralized dispatching center and apply to all rail line traffic including passenger, commuter, freight, and Hyrail and Maintenance of Way Operations.

• Maximum authorized speed is now 25 mph as per ATCX Timetable 2.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0066) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on September 3, 2008.
Grady C. Cothen, Jr.,
Deputy Associate Administrator for Safety Standards and Program Development.

[FR Doc. E8-20725 Filed 9-5-08; 8:45 am]

BILLING CODE 4910-06-P